DEPARTMENT OF COMMERCE

International Trade Administration

[A-588-804]

Notice of Amended Final Results of Antidumping Duty Administrative Reviews: Ball Bearings and Parts Thereof from Japan

AGENCY: Import Administration, International Trade Administration, Department of Commerce.

SUMMARY: On September 11, 2008, the Department of Commerce published in the Federal Register the final results of the administrative reviews of the antidumping duty orders on ball bearings and parts thereof from France, Germany, Italy, Japan, and the United Kingdom. The period of review is May 1, 2006, through April 30, 2007. Based on the correction of a ministerial error with respect to NTN's home-market packing expense, we have changed the margin for NTN Corporation (NTN) and, as a result, the margins for non-selected respondents for the final results of review with respect to the antidumping duty order on ball bearings and parts thereof from Japan.

EFFECTIVE DATE: September 11, 2008

FOR FURTHER INFORMATION CONTACT: Thomas Schauer or Richard Rimlinger, AD/CVD Operations, Office 5, Import Administration, International Trade Administration, U.S. Department of Commerce, 14th Street and Constitution Avenue, NW, Washington DC 20230; telephone: (202) 482-0410 and (202) 482-4477, respectively.

SUPPLEMENTARY INFORMATION:

Background

On September 11, 2008, the Department of Commerce (the Department) published in the Federal Register the final results of the administrative reviews of the antidumping duty orders on ball bearings and parts thereof (ball bearings) from France, Germany, Italy, Japan, and the United Kingdom. See Ball Bearings and Parts Thereof from France, Germany, Italy, Japan, and the United Kingdom: Final Results of Antidumping Duty Administrative Reviews and Rescission of Reviews in Part, 73 FR 52823 (September 11, 2008) (Final Results).

We received a timely allegation of a ministerial error pursuant to 19 CFR § 351.224(c) from The Timken Company, a petitioner, that our recalculation of NTN's home-market packing expenses reflected use of incorrect expense ratios. We agree that there is a ministerial error.

Before the Department issued amended final results reflecting correction of the ministerial error, NTN filed a summons and complaint to challenge the Final Results. Aisin Seiki Company, Ltd., also filed a summons and complaint with the Court of International Trade (CIT) to challenge the Final Results. In both cases, jurisdiction over the administrative proceeding vested with the CIT.

The Department subsequently moved for leave of court to amend the Final Results. On November 24, 2008, the CIT granted the Department's motion. See NTN Corporation v. United States, Slip Op. 08-129, Consol. Court No. 08-00329 (November 24, 2008). Therefore, we are hereby amending the Final Results with respect to NTN to correct the error in our calculation of NTN's home-market packing expenses in accordance with 19 CFR § 351.224(e). For details regarding the ministerial error, see the memorandum from Thomas Schauer to the File entitled “Ball Bearings from Japan - NTN Corporation (NTN) Amended Final Results Analysis Memorandum” dated December 3, 2008.

In addition, because the margin we calculated for respondents not selected for individual examination was based on a simple average of the rates of the two selected respondents in this review (JTEKT Corporation and NTN), we have recalculated the margin for the non-selected respondents to reflect the change in NTN's margin.

Amended Final Results of Review

As a result of the corrections of the ministerial error, we determine that the following percentage weighted-average dumping margins on ball bearings and parts thereof exist for the period May 1, 2006, through April 30, 2007:

Company | Margin
Aisin Seiki Company, Ltd. | 10.31
Canon, Inc. | 10.31
Nachi-Fujikoshi Corp. | 10.31
Nippon Pillow Block Company Ltd. | 10.31
NTN | 12.58
Sapporo Precision, Inc | 10.31
Toyota Motor Corp./Toyota Industries Corp. | 10.31
Yamazaki Mazak Trading Company | 10.31

The Department will determine and the U.S. Bureau of Customs and Border Protection (CBP) shall assess antidumping duties on all appropriate entries. Except where the CIT has issued preliminary injunctions enjoining the liquidation of certain entries during the period of review, we intend to issue appropriate assessment instructions directly to CBP 15 days after publication of these amended final results of review. For a general discussion of the application of assessment rates, see Final Results, 73 FR at 52825-6.

We will also direct CBP to collect cash deposits of estimated antidumping duties on all appropriate entries at the rates as amended by this notice and in accordance with the procedures discussed in the Final Results, 73 FR at 52825-6. The amended deposit requirements are effective for all shipments of the subject merchandise entered, or withdrawn from warehouse, for consumption on or after September 11, 2008, the date on which we published the Final Results in the Federal Register. We will instruct CBP to collect cash deposits of estimated antidumping duties for all shipments of the subject merchandise entered, or withdrawn from warehouse, for consumption as provided for by section 751(a)(2)(C) of the Act, based on these amended final results, retroactively effective to September 11, 2008, the date of publication of the Final Results.

We are issuing and publishing this determination and notice in accordance with sections 751(a)(1) and 777(i) of the Tariff Act of 1930, as amended, and 19 CFR § 351.224(e).

Dated: December 3, 2008.
David M. Spooner,
Assistant Secretary for Import Administration.

[FR Doc. E8-29127 Filed 12-8-08; 8:45 am]

BILLING CODE 3510-DS-S